DEPARTMENT OF JUSTICE

Notice of Lodging of Proposed Consent Decree

On September 12, 2025, the Department of Justice lodged a proposed Consent Decree (“Decree”) with the United States District Court for the District of New Jersey in the lawsuit entitled City of Vineland v. Vineland Ice and Storage, LLC, et al., Civil Action No. 1:22-cv-2444-CPO-MJS.

This is a tax foreclosure action by the City of Vineland for 544 E Pear Street in Vineland, New Jersey (“the Property”). The City named the United States as a defendant because the United States holds a lien on the Property to secure payment for costs incurred by the Environmental Protection Agency (“EPA”) in connection with EPA's response to hazardous substances at the South Jersey Ice and Cold Storage Superfund Site on the Property. The lien is pursuant to Section 107(l)(1) of the Comprehensive Environmental Response, Compensation, and Liability Act of 1980, as amended (“CERCLA”), 42 U.S.C. 9607)(l)(1), and is recorded in the Cumberland County Clerk's Office in Book 4181 of Mortgages for said county at page 7587 (the “CERCLA Lien”). The United States removed the City's state-court action to federal district court in April 2022.

The proposed Decree will allow the City of Vineland to continue seeking a foreclosure judgment to obtain ownership of the Property without affecting the CERCLA Lien. The CERCLA Lien will remain on the Property until EPA's response costs are satisfied or the United States files a release. Under the Consent Decree, the United States agrees it will not seek judicial sale of the Property under 28 U.S.C. 2410(c) or foreclose on the Property under Section 107(l)(4) of CERCLA, 42 U.S.C. 9607(l)(4). In return, if the City decides to sell the property, it must pay the United States the lesser of $981,871.27 or the net sales proceeds of the Property. And if the City considers using the property for income-generating purposes, the City must notify EPA and EPA will be entitled to a percentage of the future income until its costs are satisfied.

The publication of this notice opens a period for public comment on the proposed Decree. Comments should be addressed to the Assistant Attorney General, Environment and Natural Resources Division, and should refer to City of Vineland v. Vineland Ice and Storage, LLC, et al., D.J. Ref. No. 90-11-3-12363. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

Any comments submitted in writing may be filed by the United States in whole or in part on the public court docket without notice to the commenter.

During the public comment period, the proposed Decree may be examined and downloaded at this Justice Department website: https://www.justice.gov//decrees. If you require assistance accessing the proposed Decree, you may request assistance by email or by mail to the addresses provided above for submitting comments.

Eric D. Albert,
Assistant Section Chief, Environmental Enforcement Section, Environment and Natural Resources Division.

[FR Doc. 2025-17942 Filed 9-16-25; 8:45 am]

BILLING CODE 4410-15-P